FEDERAL DEPOSIT INSURANCE CORPORATION

Notice to All Interested Parties of Intent To Terminate Receivership

Notice is hereby given that the Federal Deposit Insurance Corporation (FDIC or Receiver), as Receiver for the institution listed below, intends to terminate its receivership for said institution.

Notice of Intent To Terminate Receivership
Fund | Receivership name | City | State | Date of appointment of receiver
10429 | New City Bank | Chicago | IL | 03/09/2012

The liquidation of the assets for the receivership has been completed. To the extent permitted by available funds and in accordance with law, the Receiver will be making a final dividend payment to proven creditors. Based upon the foregoing, the Receiver has determined that the continued existence of the receivership will serve no useful purpose. Consequently, notice is given that the receivership shall be terminated, to be effective no sooner than 30 days after the date of this notice. If any person wishes to comment concerning the termination of the receivership, such comment must be made in writing, identify the receivership to which the comment pertains, and sent within 30 days of the date of this notice to: Federal Deposit Insurance Corporation, Division of Resolutions and Receiverships, Attention: Receivership Oversight Section, 600 North Pearl, Suite 700, Dallas, TX 75201. No comments concerning the termination of this receivership will be considered that are not sent within this time frame.

(Authority: 12 U.S.C. 1819)

Dated at Washington, DC, on February 18, 2025.
Jennifer M. Jones,
Deputy Executive Secretary. Federal Deposit Insurance Corporation.

[FR Doc. 2025-02952 Filed 2-21-25; 8:45 am]

BILLING CODE 6714-01-P